ENVIRONMENTAL PROTECTION AGENCY

[FRL OP-OFA-067]

Environmental Impact Statements; Notice of Availability

Responsible Agency: Office of Federal Activities, General Information 202-564-5632 or https://www.epa.gov/nepa.

Weekly receipt of Environmental Impact Statements (EIS)

Filed April 17, 2023 10 a.m. EST Through April 24, 2023 10 a.m. EST Pursuant to 40 CFR 1506.9

Notice

Section 309(a) of the Clean Air Act requires that EPA make public its comments on EISs issued by other Federal agencies. EPA's comment letters on EISs are available at: https://cdxapps.epa.gov/cdx-enepa-II/public/action/eis/search.

EIS No. 20230057, Final, USFS, UT, Southern Monroe Mountain Allotments Livestock Grazing Authorization, Review Period Ends: 06/20/2023, Contact: Mike Elson 435-896-9233.

EIS No. 20230058, Draft, NRCS, GA, Draft Supplemental Watershed Plan & Environmental Impact Statement for Etowah River Watershed Dam No. 13-A, Comment Period Ends: 06/12/2023, Contact: Eric Harris 706-546-2217.

Dated: April 25, 2023.
Cindy S. Barger,
Director, NEPA Compliance Division, Office of Federal Activities.

[FR Doc. 2023-09022 Filed 4-27-23; 8:45 am]

BILLING CODE 6560-50-P